DEPARTMENT OF ENERGY

Federal Energy Regulatory Commission

Combined Notice of Filings #1

Take notice that the Commission received the following electric corporate filings:

Docket Numbers: EC19-43-000.

Applicants: CalPeak Power LLC, CalPeak Power—Border LLC, CalPeak Power—Enterprise LLC, CalPeak Power—Panoche LLC, CalPeak Power—Vaca Dixon LLC, Midway Peaking, LLC, Malaga Power, LLC.

Description: Application for Authorization Under Section 203 of the Federal Power Act, et al. of CalPeak Power LLC, et al.

Filed Date: 12/31/18.

Accession Number: 20181231-5203.

Comments Due: 5 p.m. ET 1/22/19.

Docket Numbers: EC19-44-000.

Applicants: FirstLight Hydro Generating Company, FirstLight CT Housatonic LLC, FirstLight CT Hydro LLC, FirstLight MA Hydro LLC, Northfield Mountain LLC.

Description: Joint Application for Authorization Under Section 203 of the Federal Power Act, et al. of FirstLight Hydro Generating Company, et al.

Filed Date: 1/2/19.

Accession Number: 20190102-5198.

Comments Due: 5 p.m. ET 1/23/19.

Take notice that the Commission received the following electric rate filings:

Docket Numbers: ER10-3310-014; ER18-53-002.

Applicants: New Harquahala Generating Company, LLC, CXA La Paloma, LLC.

Description: Triennial Market Power Update for the Southwest Region of New Harquahala Generating Company, LLC.

Filed Date: 1/2/19.

Accession Number: 20190102-5077.

Comments Due: 5 p.m. ET 3/4/19.

Docket Numbers: ER18-296-001.

Applicants: Phibro Americas LLC.

Description: Supplement to December 10, 2018 Notice of Non-Material Change in Status of Phibro Americas LLC.

Filed Date: 12/31/18.

Accession Number: 20181231-5258.

Comments Due: 5 p.m. ET 1/22/19.

Docket Numbers: ER18-784-004.

Applicants: Upstream Wind Energy LLC.

Description: Triennial Report of Upstream Wind Energy LLC.

Filed Date: 12/21/18.

Accession Number: 20181221-5428.

Comments Due: 5 p.m. ET 2/19/19.

Docket Numbers: ER18-2312-001.

Applicants: Enel Green Power Diamond Vista Wind Project, LLC.

Description: Notice of Non-Material Change in Status of Enel Green Power Diamond Vista Wind Project, LLC.

Filed Date: 12/31/18.

Accession Number: 20181231-5201.

Comments Due: 5 p.m. ET 1/22/19.

Docket Numbers: ER19-29-006.

Applicants: NorthWestern Corporation.

Description: Compliance filing: Compliance Filing to Migrate ExxonMobil NITSA-NOA to Tariff ID 41 to be effective 10/8/2018.

Filed Date: 12/31/18.

Accession Number: 20181231-5196.

Comments Due: 5 p.m. ET 1/22/19.

Docket Numbers: ER19-389-001.

Applicants: Marco DM Holdings, L.L.C.

Description: Tariff Amendment: Amendment to market-based rate tariff revision to be effective 1/21/2019.

Filed Date: 1/2/19.

Accession Number: 20190102-5113.

Comments Due: 5 p.m. ET 1/23/19.

Docket Numbers: ER19-743-000.

Applicants: PJM Interconnection, L.L.C.

Description: § 205(d) Rate Filing: Amendment to AC2-071 WMPA SA No. 4911 to be effective 1/26/2018.

Filed Date: 12/31/18.

Accession Number: 20181231-5093.

Comments Due: 5 p.m. ET 1/22/19.

Docket Numbers: ER19-744-000.

Applicants: PJM Interconnection, L.L.C.

Description: § 205(d) Rate Filing: Revisions to the OATT and OA re: GDECS—Phase 4 to be effective 3/1/2019.

Filed Date: 12/31/18.

Accession Number: 20181231-5098.

Comments Due: 5 p.m. ET 1/22/19.

Docket Numbers: ER19-745-000.

Applicants: PJM Interconnection, L.L.C.

Description: § 205(d) Rate Filing: Revisions to OATT, Sch. 12-Appendices re: 2019 RTEP Annual Cost Allocations to be effective 1/1/2019.

Filed Date: 12/31/18.

Accession Number: 20181231-5103.

Comments Due: 5 p.m. ET 1/22/19.

Docket Numbers: ER19-746-000.

Applicants: Pacific Gas and Electric Company.

Description: Tariff Cancellation: Termination of West Stanislaus Irrigation District TFA under WAPA SA (SA 59) to be effective 3/1/2019.

Filed Date: 12/31/18.

Accession Number: 20181231-5186.

Comments Due: 5 p.m. ET 1/22/19.

Docket Numbers: ER19-747-000.

Applicants: Entergy Mississippi, LLC.

Description: Baseline eTariff Filing: Notice of Succession to be effective 12/31/2018.

Filed Date: 12/31/18.

Accession Number: 20181231-5195.

Comments Due: 5 p.m. ET 1/22/19.

Docket Numbers: ER19-748-000.

Applicants: New England Power Pool Participants Committee.

Description: § 205(d) Rate Filing: January 2019 Membership Filing to be effective 12/1/2018.

Filed Date: 12/31/18.

Accession Number: 20181231-5207.

Comments Due: 5 p.m. ET 1/22/19.

Docket Numbers: ER19-749-000.

Applicants: PacifiCorp.

Description: § 205(d) Rate Filing: ESM Construction Agreement—Sigurd to be effective 12/20/2018.

Filed Date: 12/31/18.

Accession Number: 20181231-5235.

Comments Due: 5 p.m. ET 1/22/19.

Docket Numbers: ER19-750-000.

Applicants: The Empire District Electric Company.

Description: § 205(d) Rate Filing: Filing to Modify Formula Rates to Address Fed. Tax Reform & Request for Waivers to be effective 1/1/2019.

Filed Date: 12/31/18.

Accession Number: 20181231-5253.

Comments Due: 5 p.m. ET 1/22/19.

Docket Numbers: ER19-751-000.

Applicants: Buffalo Ridge II LLC.

Description: § 205(d) Rate Filing: Reactive Power Rate Schedule to be effective 3/1/2019.

Filed Date: 12/31/18.

Accession Number: 20181231-5255.

Comments Due: 5 p.m. ET 1/22/19.

Docket Numbers: ER19-752-000.

Applicants: East Avenue Energy, LLC.

Description: Tariff Cancellation: East Avenue Energy LLC Cancellation of MBR Aurthority to be effective 1/2/2019.

Filed Date: 1/2/19.

Accession Number: 20190102-5070.

Comments Due: 5 p.m. ET 1/23/19.

Docket Numbers: ER19-753-000.

Applicants: PJM Interconnection, L.L.C.

Description: Tariff Cancellation: Notice of Cancellation of WMPA/SA No. 4705; Queue No. AC1-197 to be effective 2/1/2019.

Filed Date: 1/2/19.

Accession Number: 20190102-5110.

Comments Due: 5 p.m. ET 1/23/19.

Docket Numbers: ER19-754-000.

Applicants: AEP Texas Inc.

Description: § 205(d) Rate Filing: AEPTX-Woodward Mountain Wind I Interconnection Agreement First Amd & Restated to be effective 12/12/2018.

Filed Date: 1/2/19.

Accession Number: 20190102-5141.

Comments Due: 5 p.m. ET 1/23/19.

Take notice that the Commission received the following qualifying facility filings:

Docket Numbers: QF19-636-000.

Applicants: Tata Chemicals (Soda Ash) Partners.

Description: Form 556 of Tata Chemicals (Soda Ash) Partners.

Filed Date: 12/31/18.

Accession Number: 20181231-5283.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2019.
Nathaniel J. Davis, Sr.,
Deputy Secretary.

[FR Doc. 2019-00019 Filed 1-7-19; 8:45 am]

BILLING CODE 6717-01-P